ENVIRONMENTAL PROTECTION AGENCY

[EPA-HQ-OPPT-2025-1610; FRL-12975-03-OCSPP]

Science Advisory Committee on Chemicals (SACC); Notice of Postponement of Public Meeting

AGENCY: Environmental Protection Agency (EPA).

ACTION: Notice.

SUMMARY: The Environmental Protection Agency has postponed the virtual preparatory meeting for the Science Advisory Committee on Chemicals (SACC) to consider the scope and clarity of the draft charge questions for the peer review of the draft risk evaluation of octamethylcyclotetrasiloxane (D4). The meeting was scheduled for November 18, 2025, and will now be held December 1, 2025. The meeting was announced in the Federal Register on September 19, 2025.

DATES:

Meeting date: December 1, 2025, 1:00 p.m. to approximately 5:00 p.m. (EST).

Registration: To request time to present oral comments during the preparatory meeting, you must register by noon (12:00 p.m. EST) on November 24, 2025, and submit a written version of your oral comments by noon (12:00 p.m. EST) on November 28, 2025. For those not making oral comments, registration will remain open through the end of this meeting on December 1, 2025.

FOR FURTHER INFORMATION CONTACT: Designated Federal Official (DFO): Dr. Alaa Kamel, Regulatory and Information Services Division (7602M), Office of Mission Critical Operations, Office of Chemical Safety and Pollution Prevention, Environmental Protection Agency; telephone number: (202) 564-5336 or call the SACC main office: (202) 564-8450; email address: kamel.alaa@epa.gov.

ADDRESSES:

Meeting registration: Online registration for the preparatory meeting is available through the SACC website at https://www.epa.gov/tsca-peer-review. After registering, you will receive the webcast and streaming service meeting links and audio teleconference information.

Special accommodation requests: To request an accommodation for a disability, please contact the Designated Federal Official (DFO) listed under FOR FURTHER INFORMATION CONTACT.

SUPPLEMENTARY INFORMATION: The meeting was announced in the Federal Register on September 19, 2025 (90 FR 45204) (FRL-12975-01-OCSPP). The meeting is being rescheduled due to the lapse in government appropriations and its impact on potential and existing committee members. The December 2-5, 2025, SACC peer review meeting to discuss the D4 draft risk evaluation and technical support documents has not been rescheduled at this time. Online registration for the December 2-5, 2025 peer review meeting is available through the SACC website at https://www.epa.gov/tsca-peer-review. If these meetings must be further postponed due to a continuing lapse in government appropriations, EPA will announce the additional postponement in the Federal Register and will announce the rescheduled meeting dates in the Federal Register at least 15 days prior to the rescheduled meetings being held.

Authority: 5 U.S.C. 10; 15 U.S.C. 2625o et seq.

Dated: November 7, 2025.
Nancy B. Beck,
Principal Deputy Assistant Administrator, Office of Chemical Safety and Pollution Prevention.

[FR Doc. 2025-19875 Filed 11-12-25; 8:45 am]

BILLING CODE 6560-50-P